DEPARTMENT OF LABOR

Employment and Training Administration

[TA-W-61,415]

American & Efird, Inc. D/B/A Robison and Anton Textile Company, Bloomsburg Division, Bloomsburg, PA; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and a Negative Determination Regarding Eligibility to Apply for Alternative Trade Adjustment Assistance on June 8, 2007, applicable to workers of American & Efird, Inc., d/b/a Robison Anton Textile Company, Bloomsburg Division, Bloomsburg, Pennsylvania. The notice was published in the Federal Register on June 22, 2007 (72 FR 34482).

At the request of a company official, the Department reviewed the certification for workers of the subject firm. The workers were engaged in the production of embroidery thread and yarn.

In a request for an amendment, the company provided sufficient information confirming that the skills of the workers at the subject firm are not easily transferable in the local commuting area.

Information also obtained from the company states that a significant number of workers of the subject firm are age 50 or over, workers have skills that are not easily transferable, and conditions in the industry are adverse. Review of this information shows that all eligibility criteria under Section 246 of the Trade Act of 1974 (26 U.S.C. 2813), as amended have been met. Accordingly, the Department is amending the certification to reflect its finding.

The amended notice applicable to TA-W-61,415 is hereby issued as follows:

All workers of American & Efird, Inc., d/b/a Robison Anton Textile Company, Bloomsburg Division, Bloomsburg, Pennsylvania, who became totally or partially separated from employment on or after April 23, 2006 through June 8, 2009, are eligible to apply for adjustment assistance under Section 223 of the Trade Act of 1974 and are also eligible to apply for Alternative Trade Adjustment Assistance under Section 246 of the Trade Act of 1974.

Signed at Washington, DC this 25th day of June 2007.
Richard Church,
Certifying Officer, Division of Trade Adjustment Assistance.

[FR Doc. E7-12915 Filed 7-3-07; 8:45 am]

BILLING CODE 4510-FN-P